NUCLEAR REGULATORY COMMISSION

[Docket No. 50-382; NRC-2018-0021]

Entergy Operations, Inc.; Waterford Steam Electric Station, Unit 3

AGENCY: Nuclear Regulatory Commission.

ACTION: License amendment application; withdrawal by applicant.

SUMMARY: The U.S. Nuclear Regulatory Commission (NRC) has granted the request of Entergy Operations, Inc. (Entergy, the licensee), to withdraw its application dated December 6, 2017, as supplemented by letter dated June 29, 2018, for a proposed amendment to the Waterford Steam Electric Station, Unit 3 (Waterford 3), Facility Operating License No. 50-382. The proposed amendment would have revised the Waterford 3 Technical Specifications (TS) 3/4.3.2 Table 4.3-2, “Engineered Safety Features Actuation System [ESFAS] Instrumentation Surveillance Requirements.” Specifically, the proposed amendment would have removed Note 3 of the table, the exemption from testing ESFAS relays K114, K305, and K313 at power.

DATES: January 31, 2019.

ADDRESSES: Please refer to Docket ID NRC-2018-0021 when contacting the NRC about the availability of information regarding this document. You may obtain publicly-available information related to this document using any of the following methods:

• Federal Rulemaking website: Go to http://www.regulations.gov and search for Docket ID NRC-2018-0021. Address questions about Docket IDs in Regulations.gov to Krupskaya Castellon; telephone: 301-287-9221; email: Krupskaya.Castellon@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in this document.

• NRC's PDR: You may examine and purchase copies of public documents at the NRC's PDR, Room O1-F21, One White Flint North, 11555 Rockville Pike, Rockville, Maryland 20852.

FOR FURTHER INFORMATION CONTACT: April L. Pulvirenti, Office of Nuclear Reactor Regulation, U.S. Nuclear Regulatory Commission, Washington, DC 20555-0001; telephone: 301-415-1390, email: April.Pulvirenti@nrc.gov.

SUPPLEMENTARY INFORMATION: The NRC has granted the request of Entergy to withdraw its application dated December 6, 2017 (ADAMS Accession No. ML17340B321), as supplemented by letter dated June 29, 2018 (ADAMS Accession No. ML18180A271), for a proposed amendment to Facility Operating License No. NPF-38 for the Waterford Steam Electric Station, Unit 3, located in St. Charles Parish, Louisiana.

The proposed amendment would have revised TS 3/4.3.2 Table 4.3-2, “Engineered Safety Features Actuation System Instrumentation Surveillance Requirements.” The amendment would have removed from Note 3 of the table, the exemption from testing ESFAS relays K114, K305, and K313 at power. Implementation of the amendment would have required a modification to plant circuitry to allow testing for these relays while at power.

The Commission has previously issued a proposed finding that the amendment involves no significant hazards consideration published in the Federal Register on February 13, 2018 (83 FR 6222). However, by letter dated December 20, 2018 (ADAMS Accession No. ML18354B283), the licensee requested to withdraw the proposed amendment.

Dated at Rockville, Maryland, this 24th day of January 2019.
For the Nuclear Regulatory Commission.
April L Pulvirenti,
Project Manager, Plant Licensing Branch IV, Division of Operator Reactor Licensing, Office of Nuclear Reactor Regulation.

[FR Doc. 2019-00390 Filed 1-30-19; 8:45 am]

BILLING CODE 7590-01-P